DEPARTMENT OF TRANSPORTATION

Federal Aviation Administration

Agency Information Collection Activities: Requests for Comments; Clearance of New Approval of Information Collection: Safety Assurance System (SAS) External Portal

AGENCY: Federal Aviation Administration (FAA), DOT.

ACTION: Notice and request for comments.

SUMMARY: In accordance with the Paperwork Reduction Act of 1995, FAA invites public comments about our intention to request the Office of Management and Budget (OMB) approval for a new information collection. The Federal Register Notice with a 60-day comment period soliciting comments on the following collection of information was published on February 23, 2018. The collection involves an internet-based tool, Safety Assurance System (SAS) External Portal. SAS External Portal is used by the FAA's Office of Flight Standards to conduct initial certification, routine surveillance, and certificate management for applicants and certificate holders. The information to be collected will be used to better facilitate efficient certification, surveillance and certificate management activities.

DATES: Written comments should be submitted by August 10, 2018.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall at (940) 594-5913, or by email at: Barbara.L.Hall@faa.gov.

SUPPLEMENTARY INFORMATION:

OMB Control Number: 2120-XXXX.

Title: Safety Assurance System External Portal.

Form Numbers: (Pending) Initial Certification Data Collection Tool (14 CFR 121 and 135) and Initial Certification Data Collection Tool (14 CFR 145).

Type of Review: This is a new information collection.

Background: Safety Assurance System (SAS) External Portal is a tool used by aviation industry applicants and certificate holders to provide information to the FAA, primarily with Principal Inspectors and Certification Project Managers. SAS External Portal allows external users to register and gain secure access to SAS functions for initial certification, configuration, and to collaborate with their FAA counterparts in the execution of these functions. There will be extensive use of the External Portal for submittal of electronic documents from certificate holders and applicants. SAS External Portal is now accessible to all users via the internet, regardless of geographical location of the certificate holder or applicant, thus making it easier for applicants and certificate holders to collaborate with the FAA.

Respondents: 300 respondents.

Frequency: On occasion.

Estimated Average Burden per Response: 146 hours.

Estimated Total Annual Burden: 43,800 hours.

Issued in Washington, DC, on June 28, 2018.
Barbara Hall,
FAA Information Collection Clearance Officer, IT Enterprises Business Services Division, ASP-110.

[FR Doc. 2018-14784 Filed 7-10-18; 8:45 am]

BILLING CODE 4910-13-P